DEPARTMENT OF AGRICULTURE

Rural Utilities Service

[Docket No. RUS-25-ELECTRIC-0134]

Notice of Extension of a Currently Approved Information Collection

AGENCY: Rural Utilities Service, Department of Agriculture (USDA).

ACTION: Notice and request for comment.

SUMMARY: In accordance with the Paperwork Reduction Act of 1995 (44 U.S.C. Chapter 35, as amended), the Rural Utilities Service (RUS), an agency of the U.S. Department of Agriculture (USDA) Rural Development mission area, invites comments on this information collection for which approval from the Office of Management and Budget (OMB) will be requested.

DATES: Comments on this notice must be received by October 14, 2025.

FOR FURTHER INFORMATION CONTACT: Kimble Brown, Regulations Management Division, Innovation Center, U.S. Department of Agriculture. Email: Kimble.Brown@usda.gov.

SUPPLEMENTARY INFORMATION: The Office of Management and Budget's regulation (5 CFR 1320) implementing provisions of the Paperwork Reduction Act of 1995 (Pub. L. 104-13) requires that interested members of the public and affected agencies have an opportunity to comment on information collection and recordkeeping activities (see 5 CFR 1320.8(d)). This notice identifies an information collection that RUS is submitting to OMB for approval. Comments are invited on: (a) Whether the proposed collection of information is necessary for the proper performance of the functions of the RUS, including whether the information will have practical utility; (b) the accuracy of the RUS's estimate of the burden of the proposed collection of information including validity of the methodology and assumptions used; (c) ways to enhance the quality, utility and clarity of the information to be collected; and (d) ways to minimize the burden of the collection of information on those who are to respond, including through the use of appropriate automated, electronic, mechanical, or other technological collection techniques or other forms of information technology.

Comments may be sent by the Federal eRulemaking Portal: Go to https://www.regulations.gov and, in the “Search” box, type in the Docket No. RUS-25-ELECTRIC-0134. A link to the Notice will appear. You may submit a comment here by selecting the “Comment” button or you can access the “Docket” tab, select the “Notice,” and go to the “Browse & Comment on Documents” Tab. Here you may view comments that have been submitted as well as submit a comment. To submit a comment, select the “Comment” button, complete the required information, and select the “Submit Comment” button at the bottom. Information on using Regulations.gov, including instructions for accessing documents, submitting comments, and viewing the docket after the close of the comment period, is available through the site's “FAQ” link at the bottom.

Title: Mergers and Consolidations of Electric Borrowers, 7 CFR 1717, subpart D.

OMB Control Number: 0572-0114.

Expiration Date of Approval: January 31, 2026.

Type of Request: Extension of a currently approved collection.

Abstract: The Rural Electrification Act of 1936 (7 U.S.C. 901 et seq.), as amended (RE Act), authorizes and empowers the administrator of RUS to make and guarantee loans to furnish and improve electric service in rural areas. Due to deregulation and restructuring activities in the electric industry, RUS borrowers may find it advantageous to merge or consolidate to meet the challenges of industry change. This information collection addresses the requirements of RUS policies and procedures for mergers and consolidations of electric program borrowers.

Estimate of Burden: Public reporting burden for this collection of information is estimated to average 1.29 hours per response.

Respondents: Not for profit institutions; business or other for-profit entities.

Estimated Number of Respondents: 2.

Estimated Number of Reponses: 24.

Estimated Number of Responses per Respondent: 12.

Estimated Total Annual Burden on Respondents: 31 hours.

Copies of this information collection can be obtained from Kimble Brown, Rural Development Innovation Center, Regulations Management Division. All responses to this notice will be summarized and included in the request for OMB approval. All comments will also become a matter of public record.

Karl Elmshaeuser,
Administrator, Rural Utilities Service.

[FR Doc. 2025-15428 Filed 8-13-25; 8:45 am]

BILLING CODE 3410-15-P